FEDERAL COMMUNICATIONS COMMISSION

47 CFR Parts 0, 1, 21, 22, 27, 32, 43, 51, 53, 54, 61, 65, 68, and 90

[FCC 02-10]

Establishment of the Media Bureau, the Wireline Competition Bureau and the Consumer and Governmental Affairs Bureau, Reorganization of the International Bureau, and Other Organizational Changes

AGENCY: Federal Communications Commission.

ACTION: Final rule.

SUMMARY: This document amends the Commission's rules to reflect the new organizational structure of the Federal Communications Commission, identifying their functions and appointed delegated authority.

DATES: Effective March 25, 2002.

FOR FURTHER INFORMATION CONTACT: Contact Mary Beth Richards, Office of the Chairman, Room 8-C750, 202/418-1514 or Yvette Barrett, Office of the Managing Director, Room 1-C828, 202/418-0603, Federal Communications Commission, 445 12th Street, SW., Washington, DC 20554.

SUPPLEMENTARY INFORMATION: This Order adopted January 16, 2001 and released March 14, 2002 by the Commission amends its rules to make conforming changes reflecting the reorganization of the Commission. In order to promote a more efficient, effective and responsive organizational structure, the Federal Communications Commission created: the Media Bureau, Wireline Competition Bureau and Consumer and Governmental Affairs Bureau; reorganized the International Bureau; and consolidated enforcement and consumer information functions. Functions of the Media Bureau will include policy, licensing, and industry analysis as it relates to broadcast and cable services. The current Common Carrier Bureau will be reconfigured and renamed the Wireline Competition Bureau, which realigns functions in the wireline common carrier area and consolidates the technical and economical analysis with the new bureau. The Consumer Information Bureau will be reconfigured and renamed the Consumer and Governmental Affairs Bureau, which aligns like functions to enhance its policy role and increase its involvement with other government entities. The International Bureau will realign functions into one existing Division relating to satellites and two new Divisions: the Policy Division and the Strategic Analysis and Negotiations Division. In this Order, the Commission will amend its rules to reflect the new structure, describe their functions and delegated authority, and make other conforming organizational changes.

Authority for the adoption of the foregoing revisions is contained in sections 4(i), 4(j), 5(b), 5(c), 201(b) and 303(r) of the Communications Act of 1934, as amended, 47 U.S.C. 154(i), 154(j), 155(b), 201(b) and 303 (r).

The amendments adopted herein pertain to agency organization, procedure and practice. Consequently, the notice and comment provisions of the Administrative Procedure Act contained in 5 U.S.C. 553(b) is inapplicable.

Accordingly, it is ordered that parts 0, 1, 21, 22, 27, 32, 43, 51, 52, 53, 54, 61, 64, 65, 68, and 90 of the Commission Rules, set forth in Title 47 of the Code of Federal Regulations, are amended as set forth in the rule changes, to be effective March 25, 2002.

List of Subjects

47 CFR Part 0

Organization and functions, Reporting and recordkeeping requirements.

47 CFR Part 1

Administrative practice and procedure, Communications common carriers, Radio, Reporting and recordkeeping requirements, Satellite, Telecommunications, Television.

47 CFR Part 21

Communications common carriers, Reporting and recordkeeping requirements, Television.

47 CFR Part 22

Radio, Reporting and recordkeeping requirements, Rural areas.

47 CFR Part 27

Communications common carriers.

47 CFR Part 32

Communications common carriers, Uniform systems of account.

47 CFR Part 43

Communications common carriers, Reporting and recordkeeping requirements.

47 CFR Part 51

Communications common carriers, Telecommunications.

47 CFR Part 52

Communications common carriers, Reporting and recordkeeping requirements.

47 CFR Part 53

Accounting, Reporting and recordkeeping requirements.

47 CFR Part 54

Communications common carriers, Libraries, Reporting and recordkeeping requirements, Schools, Telecommunications.

47 CFR Part 61

Communications common carriers, Reporting and recordkeeping requirements.

47 CFR Part 64

Communications common carriers, Reporting and recordkeeping requirements, Telecommunications.

47 CFR Part 65

Communications common carriers, Reporting and recordkeeping requirements.

47 CFR Part 68

Administrative practice and procedures, Communications common carriers, Reporting and recordkeeping requirements, Telecommunications.

47 CFR Part 90

Reporting and recordkeeping requirements.

Federal Communications Commission.
William F. Caton,
Acting Secretary.

Rule Changes

For the reasons discussed in the preamble, the Federal Communications Commission amends 47 CFR parts 0, 1, 21, 22, 27, 32, 43, 51, 52, 53, 54, 61, 64, 65, 68, and 90 as follows:

PART 0—COMMISSION ORGANIZATION

1. The authority citation for part 0 continues to read as follows:

Authority: Secs. 5, 48 Stat. 1068, as amended; 47 U.S.C. 155, 225, unless otherwise noted.

2. Section 0.5 is amended by revising paragraph (a) to read as follows:

§ 0.5 General description of Commission organization and operations.

(a) Principal staff units. The Commission is assisted in the performance of its responsibilities by its staff, which is divided into the following principal units:

(1) Office of Managing Director.

(2) Office of Engineering and Technology.

(3) Office of General Counsel.

(4) Office of Plans and Policy.

(5) Office of Media Relations.

(6) Office of Legislative Affairs.

(7) Office of Inspector General.

(8) Office of Communications Business Opportunities.

(9) Office of Administrative Law Judges.

(10) Office of Workplace Diversity

(11) Wireline Competition Bureau.

(12) Wireless Telecommunications Bureau.

(13) International Bureau.

(14) Media Bureau.

(15) Enforcement Bureau.

(16) Consumer and Governmental Affairs Bureau.

* * * * *

3. Section 0.11 is amended by revising paragraphs (a)(5) and (a)(8) to read as follows:

§ 0.11 Functions of the Office.

(a) * * *

(5) Plan and administer the Commissions performance review system. Assure that objections, priorities, and action plans established by Bureau and Offices are consistent with overall Commission objectives and priorities.

* * * * *

(8) Plan and manage the administrative affairs of the Commission with respect to the functions of personnel and position management; labor-management relations; training; budget and financial management; information management and processing; organization planning; management analysis; procurement; office space management and utilization; administrative and office services; supply and property management; records management; personnel and physical security; and international telecommunications settlements.

* * * * *

4. Section 0.15 is amended by revising paragraph (e) to read as follows:

§ 0.15 Functions of the Office.

* * * * *

(e) Maintain liaison with the Consumer and Governmental Affairs Bureau on press and media issues concerning consumer assistance and information including informal consumer complaints.

5. Section 0.17 is amended by revising paragraphs (c) and (g) to read as follows:

§ 0.17 Functions of the Office.

* * * * *

(c) Assist the Office of the Managing Director in preparation of the annual report to Congress, the Commission budget and appropriations legislation to Congress; assist the Office of Media Relations in preparation of the Commission's Annual Report.

* * * * *

(g) Coordinate with the Consumer and Governmental Affairs Bureau on issues involving informal consumer complaints and other general inquiries by consumers.

6. Section 0.31 is amended by revising paragraph (n) to read as follows:

§ 0.31 Functions of the Office.

* * * * *

(n) To assist the Consumer and Governmental Affairs Bureau on issues involving informal consumer complaints and other general inquiries by consumers.

7. Section 0.51 is amended by removing paragraph (q), by redesignating paragraphs (r) and (s) as paragraphs (q) and (r) and revising newly designated paragraph (r) to read as follows:

§ 0.51 Functions of the Bureau.

* * * * *

(r) To assist the Consumer and Governmental Affairs Bureau on issues involving informal consumer complaints and other general inquiries by consumers.

8. Section 0.61 and the undesignated center heading which immediately precedes it are revised to read as follows:

Media Bureau

§ 0.61 Functions of the Bureau.

The Media Bureau develops, recommends and administers the policy and licensing programs for the regulation of media, including cable television, broadcast television and radio, and satellite services in the United States and its territories. The Bureau advises and recommends to the Commission, or acts for the Commission under delegated authority, in matters pertaining to multichannel video programming distribution, broadcast radio and television, direct broadcast satellite service policy, and associated matters. The Bureau will, among other things:

(a) Process applications for authorization, assignment, transfer and renewal of media services, including AM, FM, TV, the cable TV relay service, and related services.

(b) Conduct rulemaking proceedings concerning the legal, engineering, and economic aspects of media service.

(c) Conduct comprehensive studies and analyses concerning the legal, engineering, and economic aspects of electronic media services.

(d) Administer and enforce rules and policies regarding equal employment opportunity.

(e) Administer and enforce rules and policies regarding political programming and related matters.

(f) Administer and enforce rules and policies regarding:

(1) Radio and television broadcast industry services;

(2) Cable television systems, operators, and services, including those relating to rates, technical standards, customer service, ownership, competition to cable systems, broadcast station signal retransmission and carriage, program access, wiring equipment, channel leasing, and federal-state/local regulatory relationships. This includes: acting, after Commission assumption of jurisdiction to regulate cable television rates for basic service and associated equipment, on cable operator requests for approval of existing or increased rates; reviewing appeals of local franchising authorities' rate making decisions involving rates for the basic service tier and associated equipment, except when such appeals raise novel or unusual issues; evaluating basic rate regulation certification requests filed by cable system franchising authorities; periodically reviewing and, when appropriate, revising standard forms used in administering: the certification process for local franchising authorities wishing to regulate rates, and the substantive rate regulation standards prescribed by the Commission;

(3) Open video systems;

(4) Preemption of restrictions on devices designed for over-the-air reception of television broadcast signals, multichannel multipoint distribution service, and direct broadcast satellite services;

(5) The commercial availability of navigational devices;

(6) The accessibility of video programming to persons with disabilities;

(7) Program access and carriage;

(8) The Satellite Home Viewer Improvement Act; and

(9) Post-licensing for satellite consumer broadcast services (DBS, DTH and DARS).

Note to paragraph (f): The Media Bureau's enforcement authority does not include enforcement in those areas assigned to the Enforcement Bureau. See 47 CFR 0.111.

(g) Conduct rulemaking and policy proceedings regarding pole attachments.

(h) Process and act on all applications for authorization, petitions for special relief, petitions to deny, waiver requests, requests for certification, objections, complaints, and requests for declaratory rulings and stays regarding the areas listed.

(i) Assist the Consumer and Governmental Affairs Bureau on issues involving informal consumer complaints and other general inquiries by consumers.

(j) Exercise authority to issue non-hearing related subpoenas for the attendance and testimony of witnesses and the production of books, papers, correspondence, memoranda, schedules of charges, contracts, agreements, and any other records deemed relevant to the investigation of matters within the jurisdiction of the Media Bureau. Before issuing a subpoena, the Media Bureau shall obtain the approval of the Office of General Counsel.

(k) Carry out the functions of the Commission under the Communications Act of 1934, as amended, except as reserved to the Commission under § 0.283.

9. Section 0.91 and the undesignated center heading which immediately precedes it are revised to read as follows:

Wireline Competition Bureau

§ 0.91 Functions of the Bureau.

The Wireline Competition Bureau advises and makes recommendations to the Commission, or acts for the Commission under delegated authority, in all matters pertaining to the regulation and licensing of communications common carriers and ancillary operations (other than matters pertaining exclusively to the regulation and licensing of wireless telecommunications services and facilities). The Bureau will, among other things:

(a) Develop and recommend policy goals, objectives, programs and plans for the Commission in rulemaking and adjudicatory matters concerning wireline telecommunications, drawing on relevant economic, technological, legislative, regulatory and judicial information and developments. Overall objectives include meeting the present and future wireline telecommunications needs of the Nation; fostering economic growth; ensuring choice, opportunity, and fairness in the development of wireline telecommunications; promoting economically efficient investment in wireline telecommunications infrastructure; promoting the development and widespread availability of wireline telecommunications services; and developing deregulatory initiatives where appropriate.

(b) Act on requests for interpretation or waiver of rules.

(c) Administer the provisions of the Communications Act requiring that the charges, practices, classifications, and regulations of communications common carriers providing interstate and foreign services are just and reasonable.

(d) Act on applications for service and facility authorizations, including applications from Bell operating companies for authority to provide in-region interLATA services and applications from wireline carriers for transfers of licenses and discontinuance of service.

(e) Develop and administer rules and policies relating to incumbent local exchange carrier accounting.

(f) Develop and administer recordkeeping and reporting requirements for telecommunications carriers.

(g) Provide federal staff support for the Federal-State Joint Board on Universal Service and the Federal-State Joint Board on Jurisdictional Separations.

(h) Review the deployment of advanced telecommunications capability to ensure that such deployment is reasonable and timely, consistent with section 706 of the Act, and, where appropriate, recommend action to encourage such deployment.

(i) Provide economic, financial, and technical analyses of telecommunications markets and carrier performance.

(j) Interact with the public, local, state, and other governmental agencies and industry groups on wireline telecommunications regulation and related matters. Assist the Consumer and Governmental Affairs Bureau on issues involving informal consumer complaints and other general inquiries by consumers.

(k) Review and coordinate orders, programs and actions initiated by other Bureaus and Offices in matters affecting wireline telecommunications to ensure consistency with overall Commission policy.

(l) Carry out the functions of the Commission under the Communications Act of 1934, as amended, except as reserved to the Commission under § 0.331.

§ 0.101 [Removed]

10. Section 0.101 is removed.

11. Amend § 0.111 as follows:

a. Revise the notes to paragraphs (a)(1), (a)(2), (a)(4), (a)(8) and (a)(11);

b. Revise paragraph (a)(3);

c. Redesignate paragraphs (a)(12) through (a)(20) as paragraphs (a)(14) through (a)(22);

d. Add new paragraphs (a)(12) and (a)(13); and

e. Revise newly designated paragraphs (a)(15) and (a)(19).

§ 0.111 Functions of the Bureau.

(a) * * *

(1) * * *

Note to paragraph (a)(1): The Consumer and Governmental Affairs Bureau has primary responsibility for informally resolving individual informal complaints from consumers against common carriers (wireline, wireless and international) and against other wireless licensees, and informal consumer complaints involving access to telecommunications services and equipment for persons with disabilities. The International Bureau has primary responsibility for complaints regarding international settlements rules and policies.

(2) * * *

Note to Paragraph (a)(2): The Consumer and Governmental Affairs Bureau has primary responsibility for informally resolving individual informal complaints from consumers against non-common carriers subject to the Commission's jurisdiction under Title II of the Communications Act and related provisions.

(3) Resolve formal complaints regarding accessibility to communications services and equipment for persons with disabilities, including complaints filed pursuant to sections 225 and 255 of the Communications Act.

(4) * * *

Note to Paragraph (a)(4): The Office of Engineering and Technology has shared responsibility for radiofrequency equipment and device complaints.

* * * * *

(8) * * *

Note to Paragraph (a)(8): The Media Bureau has responsibility for enforcement of these limits in the broadcast television renewal context.

* * * * *

(11) * * *

Note to Paragraph (a)(11): The Media Bureau has primary responsibility for complaints regarding children's television programming requirements, and for political and related programming matters and equal employment opportunity matters involving broadcasters, cable operators and other multichannel video programming distributors. The relevant licensing Bureau has primary responsibility for complaints involving tower siting and the Commission's environmental rules. The Media Bureau has primary responsibility for complaints regarding compliance with conditions imposed on transfers of control and assignments of licenses of Cable Antenna Relay Service authorizations.

(12) Resolve complaints regarding pole attachments filed under section 224 of the Communications Act.

(13) Resolve complaints regarding multichannel video and cable television service under part 76 of the Commission's rules.

Note to Paragraph (a)(13): The Media Bureau has primary responsibility for complaints regarding the following: subpart A (general), with the exception of § 76.11 of this chapter; subpart B (Registration Statements); subpart C (Federal-State/Local Relationships [Reserved]; subpart D (carriage of television broadcast signals); subpart E (equal employment opportunity requirements); subpart F (nonduplication protection and syndicated exclusivity); subpart G, §§ 76.205, 76.206 and 76.209 of this chapter (political broadcasting); subpart I (Forms and Reports); subpart J (ownership); subpart L (cable television access); subpart N, § 76.944 of this chapter (basic cable rate appeals), and §§ 76.970, 76.971 and 76.977 of this chapter (cable leased access rates); subpart O (competitive access to cable programming); subpart P (competitive availability of navigation devices); subpart Q (regulation of carriage agreements); subpart S (Open Video Systems); and subparts T, U and V to the extent related to the matters listed in this note.

* * * * *

(15) Identify and analyze complaint information, conduct investigations, conduct external audits and collect information, including pursuant to sections 218, 220, 308(b), 403 and 409(e) through (k) of the Communications Act, in connection with complaints, on its own initiative or upon request of another Bureau or Office.

* * * * *

(19) Provide information regarding pending complaints, compliance with relevant requirements and the complaint process, where appropriate and to the extent the information is not available from the Consumer and Governmental Affairs Bureau or other Bureaus and Offices.

* * * * *

12. Section 0.121 is amended by revising paragraph (b) to read as follows:

§ 0.121 Location of field installations.

* * * * *

(b) Protected field offices are located at the following geographical coordinates (coordinates are referenced to North American Datum 1983 (NAD83)):

Allegan, Michigan

42°36′20.1″ N. Latitude

85°57′20.1″ W. Longitude

Anchorage, Alaska

61°09′41.″ N. Latitude

150°00′03.0″ W. Longitude

Belfast, Maine

44°26′42.3″ N. Latitude

69°04′56.1″ W. Longitude

Canandaigua, New York

42°54′48.2″ N. Latitude

77°15′57.9″ W. Longitude

Douglas, Arizona

31°30′02.3″ N. Latitude

109°39′14.3″ W. Longitude

Ferndale, Washington

48°57′20.4″ N. Latitude

122°33′17.6″ W. Longitude

Grand Island, Nebraska

40°55′21.0″ N. Latitude

98°25′43.2″ W. Longitude

Kingsville, Texas

27°26′30.1″ N. Latitude

97°53′01.0″ W. Longitude

Laurel, Maryland

39°09′54.4″ N. Latitude

76°49′15.9″ W. Longitude

Livermore, California

37°43′29.7″ N. Latitude

121°45′15.8″ W. Longitude

Powder Springs, Georgia

33°51′44.4″ N. Latitude

84°43′25.8″ W. Longitude

Santa Isabel, Puerto Rico

18°00′18.9″ N. Latitude

66°22′30.6″ W. Longitude

Vero Beach, Florida

27°36′22.1″ N. Latitude

80°38′05.2″ W. Longitude

Waipahu, Hawaii

21°22′33.6″ N. Latitude

157°59′44.1″ W. Longitude

13. In § 0.131 paragraph (a) remove the words “Common Carrier Bureau” and add, in their places the words “Wireline Competition Bureau” and revise the last sentence in paragraph (i) to read as follows:

§ 0.131 Functions of the Bureau.

* * * * *

(i) * * * Also assists the Consumer and Governmental Affairs Bureau with informal consumer complaints and other general inquiries by consumers.

* * * * *

14. Section 0.141 and the undesignated center heading which immediately precedes it are revised to read as follows:

Consumer and Governmental Affairs Bureau

§ 0.141 Functions of the Bureau.

The Consumer and Governmental Affairs Bureau develops and administers the Commission's consumer and governmental affairs policies and initiatives to enhance the public's understanding of the Commission's work and to facilitate the Agency's relationships with other governmental agencies and organizations. The Bureau is responsible for rulemaking proceedings regarding general consumer education policies and procedures and serves as the primary Commission entity responsible for communicating with the general public regarding Commission policies, programs, and activities in order to facilitate public participation in the Commission's decision-making processes. The Bureau also performs the following functions:

(a) Advises and makes recommendations to the Commission, or acts for the Commission under delegated authority, in matters pertaining to consumers and governmental affairs. This includes policy development and coordination as well as adjudication and rulemaking.

(b) Collaborates with, and advises and assists, the public, state and local governments, and other governmental agencies and industry groups on consumer matters.

(c) Advises the Commission and other Bureaus and Offices of consumer and governmental affairs-related areas of concern or interest; initiates, reviews, and coordinates orders, programs and actions, in conjunction with other Bureaus and Offices, in matters regarding consumer education policies and procedures, and any other related issues affecting consumer policy; represents the Commission on consumer and governmental-related committees, working groups, task forces and conferences within and outside the Commission; and provides expert advice and assistance to Bureaus and Offices and consumers regarding compliance with applicable disability and accessibility requirements, rules, and regulations.

(d) Collects and analyzes information from industry, other Bureaus and Offices, and the media, as well as information received in the Bureau from informal consumer inquiries and complaints, rulemakings, and consumer forums; identifies trends that affect consumers; in consultation with the Office of the Managing Director, provides objectives and evaluation methods for the public information portion of the Commission's Government Performance and Results Act submissions and other Commission-wide strategic planning efforts.

(e) Researches, develops, and distributes materials to inform consumers about the Commission's rules, proposals, and events, and to promote consumer participation in Commission rulemakings and activities; maintains the Commission's Consumer Information Directory; develops a library of commonly requested materials on issues of interest to all consumers. Ensures that alternative translations of Commission materials are available to Commission employees, Bureaus, Offices, and members of the public.

(f) Advises and makes recommendations to the Commission, or acts for the Commission under delegated authority, in matters pertaining to persons with disabilities. Provides expert advice and assistance, as required, to other Bureaus and Offices, consumers, industry, and others on issues relevant to persons with disabilities. Initiates rulemakings, where appropriate; reviews relevant agenda items and other documents and coordinates with Bureaus and Offices to develop recommendations and propose policies to ensure that communications are accessible to persons with disabilities, in conformance with existing disability laws and policies, and that they support the Commission's goal of increasing accessibility of communications services and technologies for persons with disabilities.

(g) Plans, develops, and conducts consumer outreach and education initiatives to educate the public about important Commission regulatory programs. In coordination with other Bureaus and Offices, establishes liaison(s) for information sharing purposes to ensure coordination on all consumer outreach projects. Ensures that alternative translations of Commission materials are available to Commission employees, Bureaus, Offices and members of the public.

(h) Serves as the official FCC records custodian for designated records, including intake processing, organization and file maintenance, reference services, and retirement and retrieval of records; manages the Electronic Comment Filing System and certifies records for adjudicatory and court proceedings. Maintains manual and computerized files that provide for the public inspection of public record materials concerning Broadcast Ownership, AM/FM/TV, TV Translators, FM Translators, Cable TV, Wireless, Auction, Common Carrier Tariff matters, International space station files, earth station files, DBS files, and other miscellaneous international files. Also maintains for public inspection Time Brokerage and Affiliation Agreements, court citation files, and legislative histories concerning telecommunications dockets. Provides the public and Commission staff prompt access to manual and computerized records and filing systems.

(i) Provides informal mediation and resolution of individual informal consumer inquiries and complaints consistent with Commission regulations. Resolves certain classes of informal complaints, as specified by the Commission, through findings of fact and issuance of orders. Receives, reviews, and analyzes responses to informal complaints; maintains manual and computerized files that permit the public inspection of informal consumer complaints; mediates and attempts to settle unresolved disputes in informal complaints as appropriate; and coordinates with other Bureaus and Offices to ensure that consumers are provided with accurate, up-to-date information. Develops and fosters partnerships with state regulatory entities to promote the sharing of information pertaining to informal complaint files maintained by the Bureau.

(j) Provides leadership to other Bureaus and Offices for dissemination of consumer information via the Internet.

(k) In coordination with other Bureaus and Offices, handles Congressional and other correspondence related to specific informal consumer complaints, or other specific matters within the responsibility of the Bureau, to the extent not otherwise handled by the Office of General Counsel or other Bureaus or Offices. Responds to and/or coordinates due diligence and other requests for information pertaining to informal inquiries and complaints under the responsibility of the Bureau with other Bureaus and Offices.

15. Section 0.182 is amended by revising paragraph (b) to read as follows:

§ 0.182 Chief, Enforcement Bureau.

* * * * *

(b) In coordination with the Office of Managing Director, which has responsibility for developing the Commission's Continuity of Operations Plan (COOP). Acts as Alternate Defense Coordinator in representations with other agencies with respect to planning for the continuity of the essential functions of the Commission under emergency conditions.

* * * * *

§ 0.241 [Amended].

16. In § 0.241 (d) remove the words “Chief, Mass Media Bureau” and add, in their place, the words “Chief, Media Bureau.”

17. Section 0.261 is amended by revising paragraph (a)(3) to read as follows:

§ 0.261 Authority delegated.

(a) * * *

(3) To act upon applications for international telecommunications and services pursuant to part 23 of this chapter and relevant portions of part 63 of this chapter, and coordinate with the Wireline Competition Bureau as appropriate;

* * * * *

18. Section 0.283 and the undesignated center heading which immediately precedes it are revised to read as follows:

Chief, Media Bureau

§ 0.283 Authority delegated.

The Chief, Media Bureau, is delegated authority to perform all functions of the Bureau, described in § 0.61, provided that the following matters shall be referred to the Commission en banc for disposition:

(a) Notices of proposed rulemaking and of inquiry and final orders in such proceedings, with the exception of rulemaking proceedings involving the allotment of FM and television channels.

(b) Application for review of actions taken pursuant to delegated authority.

(c) Matters that present novel questions of law, fact or policy that cannot be resolved under existing precedents and guidelines.

(d) The imposition, reduction or cancellation of forfeitures pursuant to section 503(b) of the Communications Act of 1934, as amended, in amounts of more than $20,000.

§ 0.284 [Amended]

19. In § 0.284 paragraphs (a) introductory text and (b) remove the words “Chief, Mass Media Bureau” and add, in their place, the words “Chief, Media Bureau”, remove paragraphs (a)(2), (a)(7) and (c); redesignate paragraphs (a)(3), (a)(4), (a)(5), (a)(6), (a)(8) and (a)(9) as paragraphs (a)(2) through (a)(7).

20. Section 0.285 is revised to read as follows:

§ 0.285 Record of actions taken.

The history card, the station file, and other appropriate files are designated to be the official records of action taken by the Chief of the Media Bureau. The official records of action are maintained in the Reference Information Center in the Consumer and Governmental Affairs Bureau.

21. The undesignated center heading preceding §0.291 is revised and § 0.291 is amended by removing the words “Common Carrier Bureau” and add, in their place, the words “Wireline Competition Bureau” each place it appears, by removing paragraph (c), by redesignating paragraphs (d) through (j) as paragraphs (c) through (i), and by revising newly designated paragraphs (c) and (i)(2) to read as follows:

Chief, Wireline Competition Bureau

§ 0.291 Authority delegated.

* * * * *

(c) Authority to designate for hearing. The Chief, Wireline Competition Bureau shall not have authority to designate for hearing any applications except applications for facilities where the issues presented relate solely to whether the applicant has complied with outstanding precedents and guidelines.

* * * * *

(i) * * *

(2) The Chief, Wireline Competition Bureau, shall not have authority to act on petitions filed pursuant to part 69, subpart H, of this chapter for pricing flexibility involving common line and traffic sensitive services.

22. Section 0.302 is revised to read as follows:

§ 0.302 Record of actions taken.

The application and authorization files are designated as the Commission's official records of action of the Chief, Wireline Competition Bureau pursuant to authority delegated to the Chief. The official records of action are maintained in the Reference Information Center in the Consumer and Governmental Affairs Bureau.

23. Section 0.303 is revised to read as follows:

§ 0.303 Authority concerning registration of telephone terminal equipment.

Authority is delegated to the Chief of the Wireline Competition Bureau jointly in cooperation with the Chief Engineer to act upon applications for registration of equipment to be directly connected to the telephone network; Provided, however, That the Chief, Wireline Competition Bureau shall exercise overall policy direction of the program, with appropriate consultation with the Chief Engineer (For record of actions taken under this section, see § 0.247).

§ 0.304 [Amended]

24. In § 0.304 remove the words “Chief, Common Carrier Bureau” and add, in their place, the words “Chief, Wireline Competition Bureau.”

25. Section 0.311 is amended by adding paragraph (a)(6) and by revising paragraph (c) to read as follows:

§ 0.311 Authority delegated.

* * * * *

(a) * * *

(6) Release of information pursuant to section 220(f) of the Communications Act, except for release of such information to a state public utility commission or in response to a Freedom of Information Act Request.

* * * * *

(c) Action on emergency requests for Special Temporary Authority during non-business hours shall be promptly reported to the responsible Bureau or Office.

Note to Paragraph (c): See also § 0.182 of this chapter.

26. Section 0.314 is amended by revising paragraphs (f), (g), (h), (i), and (j) to read as follows:

§ 0.314 Additional authority delegated.

* * * * *

(f) Issue notices and orders to operators of industrial, scientific, and medical (ISM) equipment, as provided in § 18.115 of this chapter.

(g) Act on requests for permission to resume operation of ISM equipment on a temporary basis, as provided by § 18.115 of this chapter, and requests for extensions of time within which to file final reports, as provided by § 18.117 of this chapter.

(h) Issue notices and orders to operators of part 15 devices, as provided in § 15.5 of this chapter.

(i) Issue notices and orders to suspend operations to multi-channel video programming distributors, as provided in § 76.613 of this chapter.

(j) Issue notices and orders to suspend operations to part 74 licensees, as provided in § 74.23 of this chapter.

§ 0.321 [Removed]

27. Section 0.321 is removed.

§ 0.325 [Removed]

28. Section 0.325 is removed.

§ 0.347 [Amended]

29. In § 0.347 remove the words “Consumer Information Bureau” and add, in their place, the words “Consumer and Governmental Affairs Bureau.”

§ 0.357 [Amended]

30. In § 0.357 remove the words “Consumer Information Bureau” and add, in their place, the words “Consumer and Governmental Affairs Bureau.”

31. The undesignated center heading preceding §0.361 is revised, and §0.361 is amended by revising the introductory text to read as follows:

Consumer and Governmental Affairs Bureau

§ 0.361 Authority delegated.

The Chief, Consumer and Governmental Affairs Bureau, is delegated authority to perform all functions of the Bureau, described in § 0.141, provided that the following matters shall be referred to the Commission en banc for disposition:

* * * * *

32. Section 0.387 is amended by revising paragraph (a) to read as follows:

§ 0.387 Other national security and emergency preparedness delegations; cross reference.

(a) For authority of the Chief of the Media Bureau to issue Emergency Alert System Authorizations (FCC Form 392), see §§ 0.284 (a) (4) and 73.913.

* * * * *

33. Section 0.401 is amended by revising paragraph (a)(5) to read as follows:

§ 0.401 Location of Commission offices.

* * * * *

(a) * * *

(5) The location of the Office of General Counsel is 445 12th Street, SW, Washington, DC 20554.

* * * * *

§ 0.423 [Amended]

34. In § 0.423 remove the words “Consumer Information Bureau, Consumer Information Network Division” and add, in their place, the words “Consumer and Governmental Affairs Bureau.”

§ 0.441 [Amended]

35. In § 0.441 remove the words “Consumer Information Bureau” and add, in their place, the words “Consumer and Governmental Affairs Bureau” each place it appears.

36. Section 0.453 is amended by revising the introductory text, paragraphs (a) introductory text, (a)(2)(ii)(E), (b), (f), (g) introductory text, (i) introductory text and (j) and by removing paragraph (1) and redesignating paragraphs (m) through (o) as paragraphs (1) through (n) and by revising newly designated paragraph (m) to read as follows:

§ 0.453 Public reference rooms.

The Commission maintains the following public reference rooms at its offices in Washington, DC, and Columbia, Maryland. Much of the information available from the public reference rooms may also be retrieved from the Commission's WorldWide Website at http://www.fcc.gov:

(a) The Reference Information Center of the Consumer and Governmental Affairs Bureau.

(2) * * *

(ii) * * *

(E) All applications for common carrier authorizations acted upon by the Enforcement Bureau, and related files.

* * * * *

(b) Reference Information Center. Station files containing applications and related materials for Remote Pickup, Aural STL/ICR, TV Auxiliary, and Low Power Auxiliary Stations in the mass media services.

* * * * *

(f) The Media Bureau. The Media Bureau maintains all cable operator requests for approval of existing or increased cable television rates for basic service and associated equipment over which the Commission had assumed jurisdiction, all documents filed in connection therewith, and all communications related thereto, unless the cable operator has submitted a request pursuant to § 0.459 that such information not be made routinely available for public inspection.

(g) The Wireline Competition Bureau. Section 214 applications and related files, to the extent that they concern domestic communications facilities and services are available for inspection at this location.

* * * * *

(i) The Wireline Competition Bureau, Industry Analysis Reference Room. The following documents, files and records are available for inspection at this location.

* * * * *

(j) The Wireline Competition Bureau, Tariff Review Reference Room. Contains currently effective tariffs filed by Communications Common Carriers pursuant to various FCC Rules and Regulations. Also available for review and copying are recent revisions to tariff filings and the Public Reference Room Log, which is prepared daily and lists the tariff filings received the previous day.

* * * * *

(m) The Media Bureau Reference Center. The following documents, files and records are available for inspection at this location.

(1) All complaints regarding cable programming rates, all documents filed in connection therewith, and all communications related thereto, unless the cable operator has submitted a request pursuant to § 0.459 that such information not be made routinely available for public inspection.

(2) All cable operator requests for approval of existing or increased cable television rates for basic service and associated equipment over which the Commission has assumed jurisdiction, all documents filed in connection therewith, and all communications related thereto, unless the cable operator has submitted a request pursuant to § 0.459 that such information not be made routinely available for public inspection.

(3) Special relief petitions and files pertaining to cable television operations.

(4) Cable television system reports filed by operators pursuant to § 76.403 of this chapter.

* * * * *

37. Section 0.455 is revised to read as follows:

§ 0.455 Other locations at which records may be inspected.

Except as provided in §§ 0.453,0.457, and 0.459, records are routinely available for inspection in the Reference Information Center or the offices of the Bureau or Office which exercises responsibility over the matters to which those records pertain (see § 0.5), or will be made available for inspection at those office upon request. Upon inquiry to the appropriate Bureau or Office, persons desiring to inspect such records will be directed to the specific location at which the particular records may be inspected. A list of Bureaus and Offices and examples of the records available at each is set out below.

(a) Media Bureau. (1) Rulings under the Fairness Doctrine and section 315 of the Communications Act, and related materials.

(2) Ruling lists which contain brief summaries of rulings.

(3) Congressional correspondence and related materials.

(4) Correspondence and other actions and decisions relating to cable television services that are not filed in the FCC Reference Information Center, e.g. rate regulation files and related documents.

(b) Wireline Competition Bureau. (1) Reports of public coast station operators filed under § 43.71 of this chapter.

(2) Valuation reports filed under section 213 of the Communications Act, including exhibits filed in connection therewith, unless otherwise ordered by the Commission, with reasons therefor, pursuant to section 213(f) of the Communications Act. See § 0.457(c)(2).

(3) Computer II files and related materials.

(c) Office of Managing Director. (1) All minutes of Commission actions, containing a record of all final votes, minutes of actions and internal management matters as provided in § 0.457 (b)(1) and (c)(1)(i). These records and files are available for inspection in the Agenda Group.

(2) Files containing information concerning the history of the Commission's rules. These files are available for inspection in the Publications Group.

(3) See § 0.443.

(4) Reports filed pursuant to subpart E of part 19 of this chapter and applications for inspection of such reports. See § 0.460(k).

(d) Office of Engineering and Technology which includes the Bureau's Technical Library containing technical reports, technical journals, and bulletins of spectrum management and related technical materials. Also files containing approved applications for Equipment Authorization (Type accepted, certified and notified) and related materials are available for review. These files are available in the Commission's Laboratory in Columbia, Maryland.

(1) Experimental application and license files.

(2) The Master Frequency Records.

(3) Applications for Equipment Authorization (type accepted, type approval, certification, or advance approval of subscription television systems), following the effective date of the authorization. See § 0.457(d)(1)(ii). (Application files, technical journals and other technical materials are maintained at the Commission's Laboratory at Columbia, Maryland.)

(e) International Bureau. The treaties and other international and bilateral agreements listed in § 73.1650 of this chapter are available for inspection in the office of the Chief, Strategic Analysis and Negotiations Division, International Bureau. Also contracts and other arrangements filed under § 43.51 and reports of negotiations regarding foreign communication matters filed under § 43.52 of this chapter, except for those kept confidential by the Commission pursuant to section 412 of the Communications Act. See § 0.457(c)(3). Also files relating to international settlements under part 64 of this chapter.

38. Section 0.465(a) is amended by revising the Note to Paragraph (a) to read as follows:

§ 0.465 Request for copies of materials which are available, or made available, for public inspection.

(a) * * *

Note to Paragraph (a): The name, address, telephone number, and schedule of fees for the current duplication contractor are published at the time of contract award of renewal in a Public Notice and periodically thereafter. Questions regarding this information should be directed to the Reference Information Center of the Consumer and Governmental Affairs Bureau.

* * * * *

PART 1—PRACTICE AND PROCEDURE

39. The authority citation for part 1 continues to read as follows:

Authority: 47 U.S.C. 151, 154(i), 154(j), 155, 225, 303(r), 309 and 325(e).

§ 1.4 [Amended].

40. In § 1.4(f) remove the words “Mass Media Bureau” and add, in their place, the words “Media Bureau.”

41. Section 1.115 is amended by revising paragraph (e)(4) to read as follows:

§ 1.115 Application for review of action taken pursuant to delegated authority.

* * * * *

(e) * * *

(4) Applications for review of final staff decisions issued on delegated authority in formal complaint proceedings on the Enforcement Bureau's Accelerated Docket (see, e.g., § 1.730) shall be filed within 15 days of public notice of the decision, as that date is defined in § 1.4(b). These applications for review oppositions and replies in Accelerated Docket proceedings shall be served on parties to the proceeding by hand or facsimile transmission.

* * * * *

§ 1.221 [Amended]

42. In § 1.221 (b) remove the words “Reference Operations Division of the Consumer Information Bureau” and in paragraph (c) remove the words “Reference Information Division of the Consumer Information Bureau”, and add, in their place, the words “Reference Information Center of the Consumer and Governmental Affairs Bureau.”

43. Section 1.403 is revised to read as follows:

§ 1.403 Notice and availability.

All petitions for rule making (other than petitions to amend the FM, Television, and Air-Ground Tables of Assignments) meeting the requirements of § 1.401 will be given a file number and, promptly thereafter, a “Public Notice” will be issued (by means of a Commission release entitled “Petitions for Rule Making Filed”) as to the petition, file number, nature of the proposal, and date of filing, Petitions for rule making are available at the Commission's Reference Information Center, 445 12th Street, SW, Washington, DC and may also be available electronically over the Internet at http://www.fcc.gov/.

§ 1.419 [Amended]

44. In § 1.419 (b) remove the words “Information Office” and add, in their place, the words “Reference Information Center” each place it appears.

§ 1.703 [Amended]

45. In § 1.703 (c) remove the words “Common Carrier Bureau” and add, in their place, the words “Enforcement Bureau.”

§ 1.735 [Amended]

46. In § 1.735 (b)(3) remove the words “Telecommunications Division” and add, in their place, the words “Policy Division.”

§ 1.742 [Amended]

47. In § 1.742 remove the words “Common Carrier Bureau” and add, in their place, the words “Wireline Competition Bureau.”

§ 1.743 [Amended]

48. In § 1.743 (e) remove the words “Common Carrier Bureau” and add, in their place, the words “Wireline Competition Bureau.”

49. Section 1.749 is revised to read as follows:

§ 1.749 Action on application under delegated authority.

Certain applications do not require action by the Commission but, pursuant to the delegated authority contained in subpart B of part 0 of this chapter, may be acted upon by the Chief of the Wireline Competition Bureau subject to reconsideration by the Commission.

50. Section 1.773 is amended by revising paragraphs (a)(2) introductory text, (a)(4) and (b)(3) to read as follows:

§ 1.773 Petitions for suspension or rejection of new tariff filings.

(a) * * *

(2) When filed. All petitions seeking investigation, suspension, or rejection of a new or revised tariff filing shall meet the filing requirements of this paragraph. In case of emergency and within the time limits provided, a telegraphic request for such relief may be sent to the Commission setting forth succinctly the substance of the matters required by paragraph (a)(1) of this section. A copy of any such telegraphic request shall be sent simultaneously to the Chief, Wireline Competition Bureau, the Chief, Pricing Policy Division, and the publishing carrier. Thereafter, the request shall be confirmed by petition filed and served in accordance with § 1.773(a)(4).

* * * * *

(4) Copies, service. An original and four copies of each petition shall be filed with the Commission as follows: the original and three copies of each petition shall be filed with the Secretary, FCC room TW-A325, 445 12th Street, SW, Washington, DC 20554; one copy must be delivered directly to the Commission's copy contractor. Additional, separate copies shall be served simultaneously upon the Chief, Wireline Competition Bureau; and the Chief, Pricing Policy Division. Petitions seeking investigation, suspension, or rejection of a new or revised tariff made on 15 days or less notice shall be served either personally or via facsimile on the filing carrier. If a petition is served via facsimile, a copy of the petition must also be sent to the filing carrier via first class mail on the same day of the facsimile transmission. Petitions seeking investigation, suspension, or rejection of a new or revised tariff filing made on more than 15 days notice may be served on the filing carrier by mail.

(b) * * *

(3) Copies, service. An original and four copies of each reply shall be filed with the Commission, as follows: the original and three copies must be filed with the Secretary, FCC room TW-A325, 445 12th Street, SW, Washington, DC 20554; one copy must be delivered directly to the Commission's copy contractor. Additional separate copies shall be served simultaneously upon the Chief, Wireline Competition Bureau, the Chief, Pricing Policy Division and the petitioner. Replies to petitions seeking investigation, suspension, or rejection of a new or revised tariff made on 15 days or less notice shall be served on petitioners personally or via facsimile. Replies to petitions seeking investigation, suspension, or rejection of a new or revised tariff made on more than 15 days notice may be served upon petitioner personally, by mail or via facsimile.

51. Section 1.774 is amended by revising paragraph (e)(2)(ii) and in paragraph (f) remove the words “Common Carrier Bureau” and add, in their place, the words “Wireline Competition Bureau” to read as follows:

§ 1.774 Pricing flexibility.

* * * * *

(e) * * *

(2) * * *

(ii) Any interested party electing to file an opposition or comment in response to a pricing flexibility petition through a method other than ETFS must file an original and four copies of each opposition or comment with the Commission, as follows: the original and three copies of each pleading shall be filed with the Secretary, FCC, 445 12th Street, SW, Washington, DC, 20554; one copy must be delivered directly to the Commission's copy contractor. Additional, separate copies shall be served upon the Chief, Wireline Competition Bureau and the Chief, Pricing Policy Division.

* * * * *

§ 1.821 [Amended]

52. In § 1.821 remove the words “Mass Media Bureau” and add, in their place, the words “Wireless Telecommunications Bureau.”

§ 1.924 [Amended]

53. In § 1.924 (c)(3) remove the words “Compliance and Information Bureau” and add, in their place, the words “Enforcement Bureau.”

§ 1.1106 [Amended]

54. In § 1.1106 in the address column, remove the words “Cable Services Bureau” and add, in their place, the words “Cable Services” each place it appears.

55. Section 1.1163 is amended by revising paragraph (c)(1) to read as follows:

§ 1.1163 Adjustments to regulatory fees.

* * * * *

(c) * * *

(1) Be derived by determining the full-time equivalent number of employees performing enforcement activities, policy and rulemaking activities, user information services, and international activities within the Wireline Competition Bureau, Media Bureau, International Bureau and other offices of the Commission, adjusted to take into account factors that are reasonably related to the benefits provided to the payor of the fee by the Commission's activities, including such factors as service coverage area, shared use versus exclusive use, and other factors that the Commission determines are necessary in the public interest:

* * * * *

56. Section 1.1202 (d) is amended by revising Note 4 to paragraph (d) to read as follows:

§ 1.1202 Definitions.

* * * * *

(d) * * *

Note 4 to Paragraph (d): Individual listeners or viewers submitting comments regarding a pending broadcast application pursuant to § 1.1204(a)(8) will not become parties simply by service of the comments. The Media Bureau may, in its discretion, make such a commenter a party, if doing so would be conducive to the Commission's consideration of the application or would otherwise be appropriate.

* * * * *

57. Section 1.4000 is amended by revising the section heading and paragraph (h) to read as follows:

§ 1.4000 Restrictions impairing reception of television broadcast signals, direct broadcast satellite services or multichannel multipoint distribution services.

* * * * *

(h) All allegations of fact contained in petitions and related pleadings before the Commission must be supported by affidavit of a person or persons with actual knowledge thereof. An original and two copies of all petitions and pleadings should be addressed to the Secretary, Federal Communications Commission, 445 12th Street, SW, Washington, DC 20554. Copies of the petitions and related pleadings will be available for public inspection in the Reference Information Center, Consumer and Governmental Affairs Bureau, Federal Communications Commission, 445 12th Street, SW, Washington, DC 20554. Copies will be available for purchase from the Commission's contract copy center, and the Commission decisions will be available on the Internet.

58. Section 1.7001 is amended by revising paragraph (d) to read as follows:

§ 1.7001 Scope and content of filed reports.

* * * * *

(d) Respondents may make requests for Commission non-disclosure of provider-specific data contained in FCC Form 477 under § 0.459 of this chapter by so indicating on Form 477 at the time that the subject data are submitted. The Commission shall make all decisions regarding non-disclosure or provider-specific information, except that the Chief of the Wireline Competition Bureau may release provider-specific information to a state commission provided that the state commission has protections in place that would preclude disclosure of any confidential information.

* * * * *

PART 21—DOMESTIC PUBLIC FIXED RADIO SERVICES

59. The authority citation for part 21 continues to read:

Authority: Secs. 1, 2, 4, 201-205, 208, 215, 218, 303, 307, 313, 403, 404, 410, 602, 48 Stat. as amended, 1064, 1066, 1070-1073, 1076, 1077, 1080, 1082, 1083, 1087, 1094, 1098, 1102, 47 U.S.C. 151, 154, 201-205, 208, 215, 218, 303, 307, 313, 314, 403, 404, 602; 47 U.S.C. 552, 554.

§ 21.305 [Amended]

60. In § 21.305 remove the words “Common Carrier Bureau” and add, in their place, the words “Wireless Telecommunications Bureau.”

61. Section 21.912 is amended by revising paragraph (d) to read as follows:

§ 21.912 Cable television company eligibility requirements and MDS/cable cross-ownership.

* * * * *

(d) The provisions of paragraphs (a) through (c) of this section will not apply to one MDS or MMDS channel used to provide locally-produced programming to cable headends. Locally-produced programming is programming produced in or near the cable operator's franchise area and not broadcast on a television station available within that franchise area. A cable operator will be permitted one MDS channel in an MMDS protected service area for this purpose, and no more than one MDS channel in an MMDS protected service area may be used by a cable television company or its affiliate or lessor pursuant to this paragraph. The licensee for a cable operator providing local programming pursuant to a lease must include in a notice filed with the Wireless Telecommunications Bureau a cover letter explicitly identifying itself or its lessees as a local cable operator and stating that the lease was executed to facilitate the provision of local programming. The first application or the first lease notification in an area filed with the Commission will be entitled to the exemption. The limitations on one MDS channel per party and per area include any cable/MDS operations grandfathered pursuant to paragraph (f) of this section or cable/ITFS operations grandfathered pursuant to § 74.931(e) of this chapter. The cable operator must demonstrate in its MDS/MMDS application that the proposed local programming will be provided within one year from the date its application is granted. Local programming service pursuant to a lease must be provided within one year of the date of the lease or one year of grant of the licensee's application for the leased channel, whichever is later. If an MDS license for these purposes is granted and the programming is subsequently discontinued, the license will be automatically forfeited the day after local programming service is discontinued.

* * * * *

§ 21.924 [Amended]

62. In § 21.924 (a) remove the words “Consumer Information Bureau” and add, in their place, the words “Consumer and Governmental Affairs Bureau.”

PART 22—PUBLIC MOBILE SERVICES

63. The authority citation for part 22 continues to read:

Authority: 47 U.S.C. 154, 222, 303, 309, and 332.

64. Section 22.757 is amended by revising paragraph (e) to read as follows:

§ 22.757 Channels for basic exchange telephone radio systems.

* * * * *

(e) Frequencies between 816-865 MHz are available for use on a coordinated basis by both commercial and private wireless licensees.

65. Section 22.947 is amended by revising paragraph (c) introductory text to read as follows:

§ 22.947 Five year build-out period.

* * * * *

(c) System information update. Sixty days before the end of the five year build-out period, the licensee of each cellular system authorized on each channel block in each cellular market must file, in triplicate, a system information update (SIU), comprising a full size map, a reduced map, and an exhibit showing technical data relevant to determination of the system's CGSA. Separate maps must be submitted for each market into which the CGSA extends, showing the extension area in the adjacent market. Maps showing extension areas must be labeled (i.e. marked with the market number and channel block) for the market into which the CGSA extends. SIUs must accurately depict the relevant cell locations and coverage of the system at the end of the five year build-out period. SIUs must be filed at the Wireless Telecommunications Bureau, Commercial Wireless Division, 445 12th Street SW, Room 4-C232, Washington, DC 20554. If any changes to the system occur after the filing of the SIU, but before the end of the five year build-out period, the licensee must file, in triplicate, additional maps and/or data as necessary to insure that the cell locations and coverage of the system as of the end of the five year build-out period are accurately depicted.

* * * * *

PART 27—MISCELLANEOUS WIRELESS COMMUNICATIONS SERVICE

66. The authority for part 27 continues to read as follows:

Authority: 47 U.S.C. 154, 301, 302, 303, 307, 309, 332, 336, and 337 unless otherwise noted.

67. Section 27.6 is amended by revising paragraph (a) introductory text to read as follows:

§ 27.6 Service areas.

(a) WCS service areas are Major Economic Areas (MEAs) and Regional Economic Area Groupings (REAGs) as defined in the Table immediately following paragraph (a)(1) of this section. Both MEAs and REAGs are based on the U.S. Department of Commerce's 172 Economic Areas (Eas). See 60 FR 13114 (March 10, 1995). In addition, the Commission shall separately license Guam and the Northern Mariana Islands, Puerto Rico and the United States Virgin Islands, American Samoa, and the Gulf of Mexico, which have been assigned Commission-created EA numbers 173-176, respectively. Maps of the EAs, MEAs, and REAGs and the Federal Register Notice that established the 172 EAs are available for public inspection and copying at the Reference Information Center, Consumer and Governmental Affairs Bureau, Federal Communications Commission, 445 12th Street, SW, Washington, DC 20554.

* * * * *

PART 32—UNIFORM SYSTEM OF ACCOUNTS FOR TELECOMMUNICATIONS COMPANIES

68. The authority citation for part 32 continues to read:

Authority: 47 U.S.C. 154(I), 154(j) and 220 as amended, unless otherwise noted.

69. Section 32.17 is revised to read as follows:

§ 32.17 Interpretation of accounts.

To the end that uniform accounting shall be maintained within the prescribed system, questions involving significant matters which are not clearly provided for shall be submitted to the Chief, Wireline Competition Bureau, for explanation, interpretation, or resolution. Questions and answers thereto with respect to this system of accounts will be maintained by the Wireline Competition Bureau.

§ 32.19 [Amended]

70. In § 32.19 remove the words “Common Carrier Bureau” and add, in their place, the words “Wireline Competition Bureau.”

§ 32.27 [Amended]

71. In § 32.27 (a) remove the words “Common Carrier Bureau” and add, in their place, the words “Wireline Competition Bureau.”

PART 43—REPORTS OF COMMUNICATION COMMON CARRIERS AND CERTAIN AFFILIATES

72. The authority citation for part 43 continues to read:

Authority: 47 U.S.C. 154; Telecommunications Act of 1996, Pub. L. 104-104, secs. 402(b)(2)(B), (c), 110 Stat. 56 (1996) as amended unless otherwise noted. 47 U.S.C. 211, 219, 220 as amended.

73. Section 43.21 is amended by revising the section heading and paragraphs (g) and (h) to read as follows:

§ 43.21 Transactions with affiliates.

* * * * *

(g) Each incumbent local exchange carrier for whom price cap regulation is mandatory and every incumbent local exchange carrier that elects to be covered by the price cap rules shall file, by April 1 of each year, a report designed to capture trends in service quality under price cap regulation. The report shall contain data relative to network measures of service quality, as defined by the Wireline Competition Bureau, from the previous calendar year on a study area basis.

(h) Each incumbent local exchange carrier for whom price cap regulation is mandatory shall file, by April 1 of each year, a report designed to capture trends in service quality under price cap regulation. The report shall contain data relative to customer measures of service quality, as defined by the Wireline Competition Bureau, from the previous calendar year a study area basis.

* * * * *

§ 43.61 [Amended]

74. In § 43.61 (a)(3) remove the words “Common Carrier Bureau” and add, in their place, the words “Wireline Competition Bureau.”

PART 51—INTERCONNECTION

75. The authority citation for part 51 continues to read:

Authority: Sections 1-5, 7, 201-05, 207-09, 218, 225-27, 251-54, 271, 332, 48 Stat. 1070, as amended, 1077; 47 U.S.C. 151-55, 157, 201-05, 207-09, 218, 225-27, 251-54, 271, 332, unless otherwise noted.

76. Section 51.329 is amended by revising paragraph (c)(3) to read as follows:

§ 51.329 Notice of network changes: Methods for providing notice.

* * * * *

(c) * * *

(3) In addition, one paper copy and one diskette copy must be sent to the “Chief, Wireline Competition Bureau, Federal Communications Commission, Washington, DC 20554.” The diskette copy must be on a standard 3 1/2 inch diskette, formatted in IBM-compatible format to be readable by high-density floppy drives operating under MS DOS 5.X or later compatible versions, and shall be in a word-processing format designated, from time-to-time, in public notices released by the Bureau. The diskette must be submitted in “read only” mode, and must be clearly labeled with the carrier's name, the filing date, and an identification or the diskette's contents.

77. Section 51.333 is amended by revising paragraph (e) to read as follows:

§ 51.333 Notice of network changes: Short term notice.

* * * * *

(e) Resolution. If an objection is filed pursuant to paragraph (c) of this section, then the Chief, Wireline Competition Bureau, will issue an order determining a reasonable public notice period, provided however, that if an incumbent LEC does not file a response within the time period allotted, or if the incumbent LEC's response accepts the latest implementation date stated by an objector, then the incumbent LEC's public notice shall be deemed amended to specify the implementation date requested by the objector, without further Commission action. An incumbent LEC must amend its public notice to reflect any change in the applicable implementation date pursuant to § 51.329(b).

PART 52—NUMBERING

78. The authority citation for part 52 continues to read:

Authority: Sec. 1, 2, 4, 5, 48 Stat. 1066, as amended; 47 U.S.C. 151, 152, 154, 155 unless otherwise noted. Interpret or apply secs. 3, 4, 201-05, 207-09, 218, 225-7, 251-2, 271 and 332, 48 Stat. 1070, as amended, 1077; 47 U.S.C. 153, 154, 201-05, 207-09, 218, 225, 251-2, 271 and 332 unless otherwise noted.

§ 52.15 [Amended]

79. In § 52.15(f)(6)(iii) and (i)(7) remove the words “Common Carrier Bureau” and add, in their place, the words “Wireline Competition Bureau.”

§ 52.16 [Amended]

80. In § 52.16 (c) remove the words “Common Carrier Bureau” and add, in their place, the words “Wireline Competition Bureau.”

§ 52.23 [Amended]

81. In § 52.23 (f) remove the words “Common Carrier Bureau” and add, in their place, the words “Wireline Competition Bureau.”

§ 52.25 [Amended]

82. In § 52.25 (g) remove the words “Common Carrier Bureau” and add, in their place, the words “Wireline Competition Bureau” each place it appears.

§ 52.26 [Amended]

83. In § 52.26 (b)(3) remove the words “Common Carrier Bureau” and add, in their place, the words “Wireline Competition Bureau” each place it appears.

§ 52.32 [Amended]

84. In § 52.32 (b) and (c) remove the words “Common Carrier Bureau” and add, in their place, the words “Wireline Competition Bureau.”

§ 52.109 [Amended]

85. In § 52.109 (c) remove the words “Common Carrier Bureau” and add, in their place, the words “Wireline Competition Bureau.”

PART 53—SPECIAL PROVISIONS CONCERNING BELL OPERATING COMPANIES

86. The authority citation for part 53 continues to read:

Authority: Sections 1-5, 7, 201-05, 218, 251, 253, 271-75, 48 Stat. 1070, as amended, 1077; 47 U.S.C. 151-55, 157, 201-05, 218, 251, 253, 271-75, unless otherwise noted.

§ 53.209 [Amended]

87. In § 53.209 (d) remove the words “Common Carrier Bureau” and add, in their place, the words “Enforcement Bureau” each place it appears.

53.211 [Amended]

88. In § 53.211 (e)(3) remove the words “Common Carrier Bureau” and add, in their place, the words “Enforcement Bureau.”

PART 54—UNIVERSAL SERVICE

89. The authority citation for part 54 continues to read:

Authority: 47 U.S.C. 1, 4(i), 201 205, 214, and 254 unless otherwise noted.

90. Section 54.207 is amended by revising paragraph (e) to read as follows:

§ 54.207 Service areas.

* * * * *

(e) The Commission delegates its authority under paragraphs (c) and (d) of this section to the Chief, Wireline Competition Bureau.

91. Section 54.301 is amended by revising paragraph (f)(2) to read as follows:

§ 54.301 Local Switching Support.

* * * * *

(f) * * *

(2) The Commission delegates its authority to review, modify, and approve the formula submitted by the Administrator pursuant to this paragraph to the Chief, Wireline Competition Bureau.

92. Section 54.703 is amended by revising paragraphs (c)(2) and (d) to read as follows:

§ 54.703 The Administrator's Board of Directors.

* * * * *

(c) * * *

(2) The name of an industry or non-industry group's nominee shall be filed with the Office of the Secretary of the Federal Communications Commission in accordance with part 1 of this chapter. The document nominating a candidate shall be captioned “In the matter of: Nomination for Universal Service Administrator's Board of Directors” and shall reference FCC Docket Nos. 97-21 and 96-45. Each nomination shall specify the position on the Board of Directors for which such nomination is submitted. Two copies of the document nominating a candidate shall be submitted to the Wireline Competition Bureau's Telecommunications Access Policy Division.

* * * * *

(d) Board member terms. The directors of the Administrator's Board shall be appointed for three-year terms, except that the Chief Executive Officer shall be a permanent member of the Board. Board member terms shall run from January 1 of the first year of the term to December 31 of the third year of the term, except that, for purposes of the term beginning on January 1, 1999, the terms of the six directors shall expire on December 31, 2000, the terms of another six directors on December 31, 2001, and the terms of the remaining six directors on December 31, 2002. Directors may be reappointed for subsequent terms pursuant to the initial nomination and appointment process described in paragraph (c) of this section. If a Board member vacates his or her seat prior to the completion of his or her term, the Administrator will notify the Wireline Competition Bureau of such vacancy, and a successor will be chosen pursuant to the nomination and appointment process described in paragraph (c) of this section.

* * * * *

93. Section 54.709 is amended by revising paragraph (a)(3) to read as follows:

§ 54.709 Computations of required contributions to universal service support mechanisms.

(a) * * *

(3) Total projected expenses for the federal universal service support mechanisms for each quarter must be approved by the Commission before they are used to calculate the quarterly contribution factor and individual contributions. For each quarter, the Administrator must submit its projections of demand for the federal universal service support mechanisms for high-cost areas, low-income consumers, schools and libraries, and rural health care providers, respectively, and the basis for those projections, to the Commission and the Wireline Competition Bureau at least sixty (60) calendar days prior to the start of that quarter. For each quarter, the Administrator must submit its projections of administrative expenses for the high-cost mechanism, the low-income mechanism, the schools and libraries mechanism and the rural health care mechanism and the basis for those projections to the Commission and the Wireline Competition Bureau at least sixty (60) calendar days prior to the start of that quarter. Based on data submitted to the Administrator on the Telecommunications Reporting Worksheets, the Administrator must submit the total contribution base to the Wireline Competition Bureau at least sixty (60) days before the start of each quarter. The projections of demand and administrative expenses and the contribution factor shall be announced by the Commission in a public notice and shall be made available on the Commission's website. The Commission reserves the right to set projections of demand and administrative expenses at amounts that the Commission determines will serve the public interest at any time within the fourteen-day period following release of the Commission's public notice. If the Commission takes no action within fourteen (14) days of the date of release of the public notice announcing the projections of demand and administrative expenses, the projections of demand and administrative expenses, and the contribution factor shall be deemed approved by the Commission. Except as provided in § 54.706(c), the Administrator shall apply the quarterly contribution factor, once approved by the Commission, to contributor's interstate and international end-user telecommunications revenues to calculate the amount of individual contributions.

* * * * *

§ 54.711 [Amended]

94. In § 54.711 (b) remove the words “Common Carrier Bureau” and add, in their place, the words “Wireline Competition Bureau.”

95. Section 54.717 is revised to read as follows:

§ 54.717 Audits of the Administrator.

The Administrator shall obtain and pay for an annual audit conducted by an independent auditor to examine its operations and books of account to determine, among other things, whether the Administrator is properly administering the universal service support mechanisms to prevent fraud, waste, and abuse:

(a) Before selecting an independent auditor, the Administrator shall submit preliminary audit requirements, including the proposed scope of the audit and the extent of compliance and substantive testing, to the Wireline Competition Bureau.

(b) The Wireline Competition Bureau shall review the preliminary audit requirements to determine whether they are adequate to meet the audit objectives. The Wireline Competition Bureau shall prescribe modifications that shall be incorporated into the final audit requirements.

(c) After the audit requirements have been approved by the Wireline Competition Bureau, the Administrator shall engage within thirty (30) calendar days an independent auditor to conduct the annual audit required by this paragraph. In making its selection, the Administrator shall not engage any independent auditor who has been involved in designing any of the accounting or reporting systems under review in the audit.

(d) The independent auditor selected by the Administrator to conduct the annual audit shall be instructed by the Administrator to develop a detailed audit program based on the final audit requirements and shall be instructed by the Administrator to submit the audit program to the Wireline Competition Bureau. The Wireline Competition Bureau shall review the audit program and make modifications, as needed, that shall be incorporated into the final audit program. During the course of the audit, the Wireline Competition Bureau may direct the Administrator to direct the independent auditor to take any actions necessary to ensure compliance with the audit requirements.

(e) During the course of the audit, the Administrator shall instruct the independent auditor to:

(1) Inform the Wireline Competition Bureau of any revisions to the final audit program or to the scope of the audit;

(2) Notify the Wireline Competition Bureau of any meetings with the Administrator in which audit findings are discussed; and

(3) Submit to the Chief of the Wireline Competition Bureau any accounting or rule interpretations necessary to complete the audit.

(f) Within sixty (60) calendar days after the end of the audit period, but prior to discussing the audit findings with the Administrator, the independent auditor shall be instructed by the Administrator to submit a draft of the audit report to the Wireline Competition Bureau.

(g) The Wireline Competition Bureau shall review the audit findings and audit workpapers and offer its recommendations concerning the conduct of the audit or the audit findings to the independent auditor. Exceptions of the Wireline Competition Bureau to the findings and conclusions of the independent auditor that remain unresolved shall be included in the final audit report.

(h) Within fifteen (15) calendar days after receiving the Wireline Competition Bureau's recommendations and making any revisions to the audit report, the Administrator shall instruct the independent auditor to submit the audit report to the Administrator for its response to the audit findings. At this time the auditor also must send copies of its audit findings to the Wireline Competition Bureau. The Administrator shall provide the independent auditor time to perform additional audit work recommended by the Wireline Competition Bureau.

(i) Within thirty (30) calendar days after receiving the audit report, the Administrator shall respond to the audit findings and send copies of its response to the Wireline Competition Bureau. The Administrator shall instruct the independent auditor that any reply that the independent auditor wishes to make to the Administrator's responses shall be sent to the Wireline Competition Bureau as well as the Administrator. The Administrator's response and the independent auditor's replies shall be included in the final audit report;

(j) Within ten (10) calendar days after receiving the response of the Administrator, the independent auditor shall file with the Commission the final audit report.

(k) Based on the final audit report, the Chief of the Wireline Competition Bureau may take any action necessary to ensure that the universal service support mechanisms operate in a manner consistent with the requirements of this Part, as well as such other action as is deemed necessary and in the public interest.

96. Section 54.722 is amended by revising the section heading and paragraph (a) to read as follows:

§ 54.722 Review by the Wireline Competition Bureau or the Commission.

(a) Requests for review of Administrator decisions that are submitted to the Federal Communications Commission shall be considered and acted upon by the Wireline Competition Bureau; provided, however, that requests for review that raise novel questions of fact, law or policy shall be considered by the full Commission.

* * * * *

97. Section 54.723 is revised to read as follows:

§ 54.723 Standard of review.

(a) The Wireline Competition Bureau shall conduct de novo review of request for review of decisions issue by the Administrator.

(b) The Federal Communications Commission shall conduct de novo review of requests for review of decisions by the Administrator that involve novel questions of fact, law, or policy; provided, however, that the Commission shall not conduct de novo review of decisions issued by the Wireline Competition Bureau under delegated authority.

98. Section 54.724 is revised to read as follows:

§ 54.724 Time periods for Commission approval of Administrator decisions.

(a) The Wireline Competition Bureau shall, within ninety (90) days, take action in response to a request for review of an Administrator decision that is properly before it. The Wireline Competition Bureau may extend the time period for taking action on a request for review of an Administrator decision for a period of up to ninety days. The Commission may also at any time, extend the time period for taking action of a request for review of an Administrator decision pending before the Wireline Competition Bureau.

(b) The Commission shall issue a written decision in response to a request for review of an Administrator decision that involves novel questions of fact, law, or policy within ninety (90) days. The Commission may extend the time period for taking action on the request for review of an Administrator decision. The Wireline Competition Bureau also may extend action on a request for review of an Administrator decision for a period of up to ninety days.

99. Section 54.807 is amended by revising paragraph (c) introductory text to read as follows:

§ 54.807 Interstate access universal service support.

* * * * *

(c) In any study area within which the price cap local exchange carrier has established state approved geographically deaveraged rates for UNE loops, the Administrator shall calculate the Interstate Access Universal Service Support Per Line for each customer class and zone using all eligible telecommunications carriers' base period lines by customer class and zone adjusted for growth during the relevant support period based on the average nationwide annual growth in eligible lines during the three previous years. For the purpose of calculating growth, the Administrator shall use a simple average of annual growth rates for total switched access lines for the three most recent years as reported in the Wireline Competition Bureau Report, Statistics of Communications Common Carriers, Table 6.10—Selected Operating Statistics. Support shall be allocated to lines in the highest cost UNE zone first, and will “cascade” to lines in lower cost UNE zones to the extent that sufficient funding is available. Beginning with the zone with the highest Zone Average Revenue Per Line, support will be applied in the following order of priority:

* * * * *

PART 61—TARIFFS

100. The authority citation for part 61 continues to read as follows:

Authority: Secs. 1, 4(i), 4(j), 201-05 and 403 of the Communications Act of 1934, as amended; 47 U.S.C. 151, 154(i), 154(j), 201-05 and 403, unless otherwise noted.

101. Section 61.17 is amended in paragraph (c), in the application format, by revising the line beginning “Attention:” to read as follows:

§ 61.17 Method of filing applications for special permission.

* * * * *

(c) * * *

Attention: Wireline Competition Bureau (here provide the statements required by section 61.152).

* * * * *

*

§ 61.32 [Amended]

102. In § 61.32 (c) remove the words “Tariff and Pricing Analysis Branch” and add, in their place, the words “Pricing Policy Division.”

103. Section 61.33 is amended by revising paragraphs (a)(3) and (g) to read as follows:

§ 61.33 Letters of transmittal.

(a) * * *

(3) State whether copies have been delivered to the Commercial Contractor and the Chief, Pricing Policy Division.

* * * * *

(g) The letter of transmittal must be substantially in the following format:

(Exact name of carrier in full)

(Post Office Address)

(Date)

Transmittal No.

Secretary, Federal Communications Commission; Washington, DC 20554

Attention: Wireline Competition Bureau

The accompanying tariff (or other publication) issued by ___, and bearing FCC No. ___, effective ___, 20 _, is sent to you for filing in compliance with the requirements of the Communications Act of 1934, as amended. (Here give the additional information required.)

(Name of issuing officer or agent)

(Title)

* * * * *

§ 61.38 [Amended]

104. In § 61.38 (c)(1) remove the words “Tariff and Pricing Analysis Branch” and add, in their place, the words “Pricing Policy Division.”

§ 61.58 [Amended]

105. In § 61.58 (a)(2)(iii) remove the words “Common Carrier Bureau” and add, in their place, the words “Wireline Competition Bureau.”

106. Section 61.153 is amended by revising paragraph (c) to read as follows:

§ 61.153 Method of filing applications.

* * * * *

(c) In addition to the requirements set forth in paragraphs (a) and (b) of this section, the issuing carrier must send a copy of the application letter with all attachments to the Secretary, Federal Communications Commission and a separate copy with all attachments to the Chief, Pricing Policy Division. If a carrier applies for special permission to revise joint tariffs, the application must state that it is filed on behalf of all carriers participating in the affected service. Applications must be numbered consecutively in a series separate from FCC tariff numbers, bear the signature of the officer or agent of the carrier, and be in the following format:

Application No.

(Date)

Secretary

Federal Communications Commission, Washington, DC 20554.

Attention: Wireline Competition Bureau (here provide the statements required by Sec. 61.152).

(Exact name of carrier)

(Name of officer or agent)

(Title of officer or agent)

PART 64—MISCELLANEOUS RULES RELATING TO COMMON CARRIERS

107. The authority citation for part 64 continues to read as follows:

Authority: 47 U.S.C. 154, 47 U.S.C. 225, 47 U.S.C. 251(e)(1), 151, 154, 201, 202, 205, 218-220, 254, 302, 303, and 337 unless otherwise noted. Interpret or apply sections 201, 218, 225, 226, 227, 229, 332, 48 Stat. 1070, as amended, 47 U.S.C. 201-204, 208, 225, 226, 227, 229, 332, 501 and 503, unless otherwise noted.

§ 64.604 [Amended]

108. In § 64.604 (c)(5)(iii)(B) and (c)(5)(iii)(I) remove the words “Common Carrier Bureau” and add, in their place, the words “Wireline Competition Bureau.”

§ 64.605 [Amended]

109. In § 64.605 (a) remove the words “Common Carrier Bureau” and add, in their place, the words “Wireline Competition Bureau.”

§ 64.903 [Amended]

110. In § 64.903(b) remove the words “Common Carrier Bureau” and add, in their place, the words “Wireline Competition Bureau.”

111. Section 64.904 amends paragraphs (b) and (c) which was published at 67 FR 5702, February 6, 2002 to read as follows:

§ 64.904 Independent audits.

* * * * *

(b) The attest engagement shall be an examination engagement and shall provide a written communication that expresses an opinion that the systems, processes, and procedures applied by the carrier to generate the results reported pursuant to § 43.21(e)(2) of this chapter comply with the Commission's Joint Cost Orders issued in conjunction with CC Docket No. 86-111, the Commission's Accounting Safeguards proceeding in CC Docket No. 96-150, and the Commission's rules and regulations including §§ 32.23 and 32.27 of this chapter, and § 64.901, and § 64.903 in force as of the date of the auditor's report. At least 30 days prior to beginning the attestation engagement, the independent auditors shall provide the Commission with the audit program. The attest engagement shall be conducted in accordance with the attestation standards established by the American Institute of Certified Public Accountants, except as otherwise directed by the Chief, Enforcement Bureau.

(c) The biennial financial audit shall provide a positive opinion on whether the applicable date shown in the carrier's annual report required by § 43.21(e)(2) of this chapter present fairly, in all material respects, the information of the Commission's Joint Cost Orders issued in conjunction with CC Docket No. 86-111, the Commission's Accounting Safeguards proceeding in CC Docket No. 96-150, and the Commission's rules and regulations including §§ 32.23 and 32.27 of this chapter, and § 64.901, and § 64.903 in force as of the date of the auditor's report. The audit shall be conducted in accordance with generally accepted auditing standards, except as otherwise directed by the Chief, Enforcement Bureau. The report of the independent auditor shall be filed at the time that the carrier files the annual reports required by § 43.21(e)(2) of this chapter.

112. In Appendix A to part 64 is amended by revising paragraph 6. b. (2)(m) to read as follows:

Appendix A To Part 64—Telecommunications Service Priority (TSP) System for National Security Emergency Preparedness (NSEP)

* * * * *

6. * * *

b. * * *

(2) * * *

(m) All reports submitted to the FCC should be directed to Chief, Wireline Competition Bureau, Washington, DC 20554.

* * * * *

PART 65—INTERSTATE RATE OF RETURN PRESCRIPTION PROCEDURES AND METHODOLOGIES

113. The authority citation for part 65 continues to read as follows:

Authority: Secs. 4, 201, 202, 203, 205, 218, 403, 48 Stat., 1066, 1072, 1077, 1094, as amended, 47 U.S.C. 151, 154, 201, 202, 203, 204, 205, 218, 219, 220, 404.

114. Section 65.101 is amended by revising paragraph (c) to read as follows:

§ 65.101 Initiation of unitary rate of return prescription proceedings.

* * * * *

(c) The Chief, Wireline Competition Bureau, may issue the notice described in § 65.101(a).

§ 65.103 [Amended]

115. In § 65.103 (a) remove the words “Common Carrier Bureau” and add, in their place, the words “Wireline Competition Bureau.”

§ 65.105 [Amended]

116. In § 65.105 (a) and (d) remove the words “Common Carrier Bureau” and add, in their place, the words “Wireline Competition Bureau” each place it appears.

§ 65.820 [Amended]

117. In § 65.820 (d) remove the words “Common Carrier Bureau” and add, in their place, the words “Wireline Competition Bureau.”

PART 68—CONNECTION OF TERMINAL EQUIPMENT TO THE TELEPHONE NETWORK

118. The authority citation for part 68 continues to read as follows:

Authority: 47 U.S.C. 154, 303.

§ 68.211 [Amended]

119. In § 68.211 (b) remove the words “Common Carrier Bureau” and add, in their place, the words “Wireline Competition Bureau.”

§ 68.317 [Amended]

120. In § 68.317 (g) remove the words “Consumer Information Bureau” and add, in their place, the words “Consumer and Governmental Affairs Bureau.”

§ 68.420 [Amended]

121. In § 68.420 (b) remove the words “Consumer Information Bureau” and add, in their place, the words “Consumer and Governmental Affairs Bureau” each place it appears and remove the words “Common Carrier Bureau” and add, in their place, the words “Enforcement Bureau.”

PART 90—PRIVATE LAND MOBILE RADIO SERVICES

122. The authority citation for part 90 continues to read as follows:

Authority: Sections 4(i), 11, 303(g), 303(r), and 332(c)(7) of the Communications Act of 1934, as amended, 47 U.S.C. 154(i), 161, 303(g), 303(r), 332(c)(7).

123. Section 90.7 is amended by revising the definition of “MTA-based license or MTA license” to read as follows:

§ 90.7 Definitions.

* * * * *

MTA-based license or MTA license. A license authorizing the right to use a specified block of SMR spectrum within one of the 51 Major Trading Areas (“MTAs”), as embodied in Rand McNally's Trading Area System MTA Diskette and geographically represented in the map contained in Rand McNally's Commercial Atlas & Marketing Guide (the “MTA Map”). The MTA Listings, the MTA Map and the Rand McNally/AMTA license agreement are available for public inspection at the Reference Information Center in the Consumer and Governmental Affairs Bureau.

* * * * *

[FR Doc. 02-6352 Filed 3-20-02; 8:45 am]

BILLING CODE 6712-01-P